DEPARTMENT OF TRANSPORTATION

Federal Aviation Administration

14 CFR Part 39

[Docket No. FAA-2024-0228; Project Identifier MCAI-2022-00599-T; Amendment 39-22881; AD 2024-23-02]

RIN 2120-AA64

Airworthiness Directives; Bombardier, Inc., Airplanes

AGENCY: Federal Aviation Administration (FAA), DOT.

ACTION: Final rule.

SUMMARY: The FAA is adopting a new airworthiness directive (AD) for certain Bombardier, Inc., Model BD-700-1A10 and BD-700-1A11 airplanes. This AD was prompted by a determination that new or more restrictive airworthiness limitations for certain brake accumulators are necessary. This AD requires revising the existing maintenance or inspection program, as applicable, to incorporate new or more restrictive airworthiness limitations. This AD also requires determining the accumulated landings on the affected brake accumulators. The FAA is issuing this AD to address the unsafe condition on these products.

DATES: This AD is effective January 15, 2025.

The Director of the Federal Register approved the incorporation by reference of certain publications listed in this AD as of January 15, 2025.

ADDRESSES:

AD Docket: You may examine the AD docket at regulations.gov under Docket No. FAA-2024-0228; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For Bombardier material identified in this AD, contact Bombardier Business Aircraft Customer Response Center, 400 Côte-Vertu Road West, Dorval, Québec H4S 1Y9, Canada; telephone 514-855-2999; email ac.yul@aero.bombardier.com; website bombardier.com.

• You may view this material at the FAA, Airworthiness Products Section, Operational Safety Branch, 2200 South 216th St., Des Moines, WA. For information on the availability of this material at the FAA, call 206-231-3195. It is also available at regulations.gov under Docket No. FAA-2024-0228.

FOR FURTHER INFORMATION CONTACT: Mark Taylor, Aviation Safety Engineer, FAA, 1600 Stewart Avenue, Suite 410, Westbury, NY 11590; 516-228-7300; email 9-avs-nyaco-cos@faa.gov.

SUPPLEMENTARY INFORMATION:

Background

The FAA issued a notice of proposed rulemaking (NPRM) to amend 14 CFR part 39 by adding an AD that would apply to certain Bombardier, Inc., Model BD-700-1A10 and BD-700-1A11 airplanes. The NPRM published in the Federal Register on March 4, 2024 (89 FR 15517). The NPRM was prompted by AD CF-2022-25, dated May 17, 2022 (referred to after this as the MCAI), issued by Transport Canada, which is the aviation authority for Canada. The MCAI states that new or more restrictive airworthiness limitations (life limits) for certain brake accumulators have been developed, following in-service failures of brake accumulators on other types of airplanes with similar components. A brake accumulator surpassing a life limit could fail and result in loss of hydraulic pressure on the associated hydraulic system, which services the main and emergency/parking brakes on the main landing gear.

In the NPRM, the FAA proposed to require revising the existing maintenance or inspection program, as applicable, to incorporate new or more restrictive airworthiness limitations for certain brake accumulators and to determine the accumulated landings on the affected brake accumulators. The FAA is issuing this AD to address brake accumulators that could surpass a life limit and fail, resulting in loss of hydraulic pressure on the associated hydraulic system, which services the main and emergency/parking brakes on the main landing gear. The unsafe condition on these products could result in reduced or total loss of available braking and a possible runway excursion.

You may examine the MCAI in the AD docket at regulations.gov under Docket No. FAA-2024-0228.

Discussion of Final Airworthiness Directive

Comments

The FAA received comments from three individuals who supported the NPRM without change.

The FAA received an additional comment from an individual who stated that accounting for the accumulated landings is a better method of gauging the necessity of maintenance or inspection on the brake accumulators since the accumulator is used in ground towing operations and to dampen sudden pressure changes in the aircraft's hydraulics during operation. The commenter stated another factor that might be accounted for is a potential difference in temperature during operation, especially if the brake accumulators in the Bombardier airplanes mentioned in the airworthiness directive have air (instead of nitrogen) as the fluid inside the accumulator.

The FAA agrees that the accumulated landings is the appropriate method of establishing the intervals for maintenance or inspection of the brake accumulators, as specified in the TLMCs. Reference to difference in temperature is unnecessary, as the currently stated calendar time requirements and accumulated landing requirements adequately and appropriately define the timing requirements of the needed actions. This methodology is consistent with that used by Transport Canada. The FAA has not changed the AD with regards to this issue.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, this AD is adopted as proposed in the NPRM. None of the changes will increase the economic burden on any operator.

Material Incorporated by Reference Under 1 CFR Part 51

The FAA reviewed the following Bombardier material. This material specifies new or more restrictive airworthiness limitations for the No. 2 and No. 3 brake accumulators having certain part numbers. These documents are distinct since they apply to different airplane configurations.

• Section 5-10-11, “Life Limits (Systems),” of Part 2, “Airworthiness Limitations,” of the Bombardier Global 5000 Featuring Global Vision Flight Deck Time Limits/Maintenance Checks (TLMC), Publication No. GL 5000 GVFD TLMC, Revision 16, dated December 19, 2023, which includes Tasks 32-43-37-01, “Discard the No. 2 Brake Accumulator, Part No. GW415-1250-1” and 32-44-05-101, “Discard the No. 3 Brake Accumulator, Part No. GW415-1200-1/-3.” (For obtaining the tasks for Bombardier Global 5000 Featuring GVFD TLMC, Publication No. GL 5000 GVFD TLMC, use Document Identification No. GL 5000 GVFD TLMC.)

• Section 5-10-11, “Life Limits (Systems),” of Part 2, “Airworthiness Limitations,” of the Bombardier Global 5000 Time Limits/Maintenance Checks, Publication No. BD-700 TLMC, Revision 26, dated December 19, 2023, which includes Tasks 32-43-37-101, “Discard the No. 2 Brake Accumulator, Part No. GW415-1250-1” and 32-44-05-101, “Discard the No. 3 Brake Accumulator, Part No. GW415-1200-1/-3.” (For obtaining the tasks for Bombardier Global 5000 TLMC, Publication No. BD-700 TLMC, use Document Identification No. GL 5000 TLMC.)

• Section 5-10-11, “Life Limits (Systems),” of Part 2, “Airworthiness Limitations,” of the Bombardier Global 6000 Time Limits/Maintenance Checks, Publication No. GL 6000 TLMC, Revision 16, dated December 19, 2023, which includes Tasks 32-43-37-101, “Discard the No. 2 Brake Accumulator, Part No. GW415-1250-1” and 32-44-05-101, “Discard the No. 3 Brake Accumulator, Part No. GW415-1200-1/-3.” (For obtaining the tasks for Bombardier Global 6000 TLMC, Publication No. GL 6000 TLMC, use Document Identification No. GL 6000 TLMC.)

• Section 5-10-11, “Life Limits (Systems),” of Part 2, “Airworthiness Limitations,” of the Bombardier Global Express Time Limits/Maintenance Checks, Publication No. BD-700 TLMC, Revision 35, dated December 19, 2023, which includes Tasks 32-43-37-101, “Discard the No. 2 Brake Accumulator, Part No. GW415-1250-1” and 32-44-05-101, “Discard the No. 3 Brake Accumulator, Part No. GW415-1200-1/-3.” (For obtaining the tasks for Bombardier Global Express TLMC, Publication No. BD-700 TLMC, use Document Identification No. GL 700 TLMC.)

• Section 5-10-11, “Life Limits (Systems),” of Part 2, “Airworthiness Limitations,” of the Bombardier Global Express XRS Time Limits/Maintenance Checks, Publication No. BD-700 XRS TLMC, Revision 22, dated December 19, 2023, which includes Tasks 32-43-37-101, “Discard the No. 2 Brake Accumulator, Part No. GW415-1250-1” and 32-44-05-101, “Discard the No. 3 Brake Accumulator, Part No. GW415-1200-1/-3.” (For obtaining the tasks for Bombardier Global Express XRS TLMC, Publication No. BD-700 XRS TLMC, use Document Identification No. GL XRS TLMC.)

• Section 5-10-11, “Life Limits (Systems),” of Part 2, “Airworthiness Limitations,” of the Bombardier Global 5500 Time Limits/Maintenance Checks, Publication No. GL 5500 TLMC, Revision 5, dated December 19, 2023, which includes Task 32-44-05-101, “Discard the No. 3 Brake Accumulator, Part No. GW415-1200-3.” (For obtaining the task for Bombardier Global 5500 TLMC, Publication No. GL 5500 TLMC, use Document Identification No. GL 5500 TLMC.)

• Section 5-10-11, “Life Limits (Systems),” of Part 2, “Airworthiness Limitations,” of the Bombardier Global 6500 Time Limits/Maintenance Checks, Publication No. GL 6500 TLMC, Revision 5, dated December 19, 2023, which includes Task 32-44-05-101, “Discard the No. 3 Brake Accumulator, Part No. GW415-1200-3.” (For obtaining the task for Bombardier Global 6500 TLMC, Publication No. GL 6500 TLMC, use Document Identification No.GL 6500 TLMC.)

The FAA also reviewed the following material, which specifies procedures for determining the accumulated landings on the brake accumulators. Knowing the accumulated landings is necessary to comply with the life limit. These documents are distinct because they apply to different airplane configurations.

• Bombardier Service Bulletin 700-1A11-32-030, Revision 02, dated March 2, 2023.

• Bombardier Service Bulletin 700-32-043, Revision 02, dated March 2, 2023.

• Bombardier Service Bulletin 700-32-5020, Revision 02, dated March 2, 2023.

• Bombardier Service Bulletin 700-32-5506, Revision 02, dated March 2, 2023.

• Bombardier Service Bulletin 700-32-6020, Revision 02, dated March 2, 2023.

• Bombardier Service Bulletin 700-32-6506, Revision 02, dated March 2, 2023.

This material is reasonably available because the interested parties have access to it through their normal course of business or by the means identified in the ADDRESSES section.

Costs of Compliance

The FAA estimates that this AD affects 117 airplanes of U.S. registry. The FAA estimates the following costs to comply with this AD:

The FAA has determined that revising the maintenance or inspection program takes an average of 90 work-hours per operator, although the agency recognizes that this number may vary from operator to operator. Since operators incorporate maintenance or inspection program changes for their affected fleet(s), the FAA has determined that a per-operator estimate is more accurate than a per-airplane estimate. Therefore, the agency estimates the average total cost per operator to be $7,650 (90 work-hours × $85 per work-hour).

Estimated Costs for Required Actions
Labor cost | Parts cost | Cost per product | Cost on U.S. operators
1.5 work-hours × $85 per hour = $128 | $0 | $128 | $14,976

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-23-02 Bombardier, Inc.: Amendment 39-22881; Docket No. FAA-2024-0228; Project Identifier MCAI-2022-00599-T.

(a) Effective Date

This airworthiness directive (AD) is effective January 15, 2025.

(b) Affected ADs

None.

(c) Applicability

This AD applies to Bombardier, Inc., Model BD-700-1A10 and BD-700-1A11 airplanes, certificated in any category, serial numbers 9002 through 9998 inclusive, and 60001 through 60046 inclusive.

(d) Subject

Air Transport Association (ATA) of America Code 05, Time Limits/Maintenance Checks; 32, Landing Gear.

(e) Reason

This AD was prompted by a determination that new or more restrictive airworthiness limitations for certain brake accumulators are necessary. The FAA is issuing this AD to address brake accumulators that could surpass a life limit and fail, resulting in loss of hydraulic pressure on the associated hydraulic system, which services the main and emergency/parking brakes on the main landing gear. The unsafe condition, if not addressed, could result in reduced or total loss of available braking and a possible runway excursion.

(f) Compliance

Comply with this AD within the compliance times specified, unless already done.

(g) Maintenance or Inspection Program Revision

Within 90 days after the effective date of this AD, revise the existing maintenance or inspection program, as applicable, to incorporate the information in the tasks specified in table 1 to paragraph (g) of this AD of Section 5-10-11, “Life Limits (Systems),” of Part 2, “Airworthiness Limitations,” of the applicable Time Limits/Maintenance Checks (TLMC) Manual. The initial compliance time for doing the tasks is at the time specified in the tasks specified in table 1 to paragraph (g) of this AD, or within 90 days after the effective date of this AD, whichever occurs later.

Table 1 to Paragraph (g)—Applicable TLMC Manuals and Service Bulletins
Airplane model and TLMC manual | Task Number 32-43-37-101 (Discard the No. 2 Brake Accumulator, Part No. GW415-1250-1) TLMC Revision | Task Number 32-44-05-101 (Discard the No. 3 Brake Accumulator, Part No. GW415-1200-1/-3) TLMC Revision | Bombardier service bulletin number
BD-700-1A10, Bombardier Global Express TLMC, Publication No. BD-700 TLMC ¹ | Revision 35, dated December 19, 2023 | Revision 35, dated December 19, 2023 | 700-32-043, Revision 02, dated March 2, 2023.
BD-700-1A10, Bombardier Global Express XRS TLMC, Publication No. BD-700 XRS TLMC ² | Revision 22, dated December 19, 2023 | Revision 22, dated December 19, 2023 | 700-32-043, Revision 02, dated March 2, 2023.
BD-700-1A10, Bombardier Global 6000 TLMC, Publication No. GL 6000 TLMC ³ | Revision 16, dated December 19, 2023 | Revision 16, dated December 19, 2023 | 700-32-6020, Revision 02, dated March 2, 2023.
BD-700-1A10, Bombardier Global 6500 Time Limits/Maintenance Checks, Publication No. GL 6500 TLMC ⁴ | No action required by this AD because all airplanes were delivered with this task in their maintenance or inspection program and must comply with the task as part of the approved type design | Revision 5, dated December 19, 2023 | 700-32-6506, Revision 02, dated March 2, 2023.
BD-700-1A11, Bombardier Global 5000 TLMC, Publication No. BD-700 TLMC ⁵ | Revision 26, dated December 19, 2023 | Revision 26, dated December 19, 2023 | 700-1A11-32-030, Revision 02, dated March 2, 2023.
BD-700-1A11, Bombardier Global 5000 Featuring Global Vision Flight Deck TLMC, Publication No. GL 5000 GVFD TLMC ⁶ | Revision 16, dated December 19, 2023 | Revision 16, dated December 19, 2023 | 700-32-5020, Revision 02, dated March 2, 2023.
BD-700-1A11, Bombardier Global 5500 TLMC, Publication No. GL 5500 TLMC ⁷ | No action required by this AD because all airplanes were delivered with this task in their maintenance or inspection program and must comply with the task as part of the approved type design | Revision 5, dated December 19, 2023 | 700-32-5506, Revision 02, dated March 2, 2023.
¹ For obtaining the tasks for Bombardier Global Express TLMC, Publication No. BD-700 TLMC, use Document Identification No. GL 700 TLMC.
² For obtaining the tasks for Bombardier Global Express XRS TLMC, Publication No. BD-700 XRS TLMC, use Document Identification No. GL XRS TLMC.
³ For obtaining the tasks for Bombardier Global 6000 TLMC, Publication No. GL 6000 TLMC, use Document Identification No. GL 6000 TLMC.
⁴ For obtaining the task for Bombardier Global 6500 Time Limits/Maintenance Checks, Publication No. GL 6500 TLMC, use Document Identification No. GL 6500 TLMC.
⁵ For obtaining the tasks for Bombardier Global 5000 TLMC, Publication No. BD-700 TLMC, use Document Identification No. GL 5000 TLMC.
⁶ For obtaining the tasks for Bombardier Global 5000 Featuring GVFD TLMC, Publication No. GL 5000 GVFD TLMC, use Document Identification No. GL 5000 GVFD TLMC.
⁷ For obtaining the task for Bombardier Global 5500 TLMC, Publication No. GL 5500 TLMC, use Document Identification No. GL 5500 TLMC.

(h) Determination of Accumulated Landings

Within 90 days after the effective date of this AD, determine the accumulated landings on the installed No. 2 and No. 3 brake accumulators in accordance with Paragraph 2.A. of the Accomplishment Instructions of the applicable service bulletin specified in table 1 to paragraph (g) of this AD.

(i) No Alternative Actions or Intervals

After the existing maintenance or inspection program has been revised as required by paragraph (g) of this AD, no alternative actions (e.g., inspections) or intervals may be used unless the actions and intervals are approved as an alternative method of compliance (AMOC) in accordance with the procedures specified in paragraph (k)(1) of this AD.

(j) Credit for Previous Actions

This paragraph provides credit for actions required by paragraph (h) of this AD, if those actions were performed before the effective date of this AD using the applicable service information specified in paragraphs (j)(1) through (12) of this AD.

(1) Bombardier Service Bulletin 700-1A11-32-030, dated October 27, 2021.

(2) Bombardier Service Bulletin 700-1A11-32-030, Revision 01, dated March 8, 2022.

(3) Bombardier Service Bulletin 700-32-043, dated October 27, 2021.

(4) Bombardier Service Bulletin 700-32-043, Revision 01, dated March 8, 2022.

(5) Bombardier Service Bulletin 700-32-5020, dated October 27, 2021.

(6) Bombardier Service Bulletin 700-32-5020, Revision 01, dated March 8, 2022.

(7) Bombardier Service Bulletin 700-32-5506, dated October 27, 2021.

(8) Bombardier Service Bulletin 700-32-5506, Revision 01, dated March 8, 2022.

(9) Bombardier Service Bulletin 700-32-6020, dated October 27, 2021.

(10) Bombardier Service Bulletin 700-32-6020, Revision 01, dated March 8, 2022.

(11) Bombardier Service Bulletin 700-32-6506, dated October 27, 2021.

(12) Bombardier Service Bulletin 700-32-6506, Revision 01, dated March 8, 2022.

(k) Other FAA AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (l)(1) of this AD. Information may be emailed to: 9-AVS-NYACO-COS@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or Transport Canada; or Bombardier, Inc.'s Transport Canada Design Approval Organization (DAO). If approved by the DAO, the approval must include the DAO-authorized signature.

(l) Additional Information

(1) For more information about this AD, contact Mark Taylor, Aviation Safety Engineer, FAA, 1600 Stewart Avenue, Suite 410, Westbury, NY 11590; telephone 516-228-7300; email 9-avs-nyaco-cos@faa.gov.

(2) Service information identified in this AD that is not incorporated by reference is available at the address specified in paragraph (m)(3) of this AD.

(m) Material Incorporated by Reference

(1) The Director of the Federal Register approved the incorporation by reference (IBR) of the material listed in this paragraph under 5 U.S.C. 552(a) and 1 CFR part 51.

(2) You must use this material as applicable to do the actions required by this AD, unless this AD specifies otherwise.

(i) Bombardier Service Bulletin 700-1A11-32-030, Revision 02, dated March 2, 2023.

(ii) Bombardier Service Bulletin 700-32-043, Revision 02, dated March 2, 2023.

(iii) Bombardier Service Bulletin 700-32-5020, Revision 02, dated March 2, 2023.

(iv) Bombardier Service Bulletin 700-32-5506, Revision 02, dated March 2, 2023.

(v) Bombardier Service Bulletin 700-32-6020, Revision 02, dated March 2, 2023.

(vi) Bombardier Service Bulletin 700-32-6506, Revision 02, dated March 2, 2023.

(vii) Section 5-10-11, “Life Limits (Systems),” of Part 2, “Airworthiness Limitations,” of the Bombardier Global 5000 Time Limits/Maintenance Checks (TLMC), Publication No. BD-700 TLMC, Revision 26, dated December 19, 2023.

Note 1 to paragraph (m)(2)(vii):

For obtaining the tasks for Bombardier Global 5000 TLMC, Publication No. BD-700 TLMC, use Document Identification No. GL 5000 TLMC.

(viii) Section 5-10-11, “Life Limits (Systems),” of Part 2, “Airworthiness Limitations,” of the Bombardier Global 5000 Featuring Global Vision Flight Deck Time Limits/Maintenance Checks, Publication No. GL 5000 GVFD TLMC, Revision 16, dated December 19, 2023.

Note 2 to paragraph (m)(2)(viii):

For obtaining the tasks for Bombardier Global 5000 Featuring GVFD TLMC, Publication No. GL 5000 GVFD TLMC, use Document Identification No. GL 5000 GVFD TLMC.

(ix) Section 5-10-11, “Life Limits (Systems),” of Part 2, “Airworthiness Limitations,” of the Bombardier Global 5500 Time Limits/Maintenance Checks, Publication No. GL 5500 TLMC, Revision 5, dated December 19, 2023.

Note 3 to paragraph (m)(2)(ix):

For obtaining the task for Bombardier Global 5500 TLMC, Publication No. GL 5500 TLMC, use Document Identification No. GL 5500 TLMC.

(x) Section 5-10-11, “Life Limits (Systems),” of Part 2, “Airworthiness Limitations,” of the Bombardier Global 6000 Time Limits/Maintenance Checks, Publication No. GL 6000 TLMC, Revision 16, dated December 19, 2023.

Note 4 to paragraph (m)(2)(x):

For obtaining the tasks for Bombardier Global 6000 TLMC, Publication No. GL 6000 TLMC, use Document Identification No. GL 6000 TLMC.

(xi) Section 5-10-11, “Life Limits (Systems),” of Part 2, “Airworthiness Limitations,” of the Bombardier Global 6500 Time Limits/Maintenance Checks, Publication No. GL 6500 TLMC, Revision 5, dated December 19, 2023.

Note 5 to paragraph (m)(2)(xi):

For obtaining the task for Bombardier Global 6500 TLMC, Publication No. GL 6500 TLMC, use Document Identification No. GL 6500 TLMC.

(xii) Section 5-10-11, “Life Limits (Systems),” of Part 2, “Airworthiness Limitations,” of the Bombardier Global Express Time Limits/Maintenance Checks, Publication No. BD-700 TLMC, Revision 35, dated December 19, 2023.

Note 6 to paragraph (m)(2)(xii):

For obtaining the tasks for Bombardier Global Express TLMC, Publication No. BD-700 TLMC, use Document Identification No. GL 700 TLMC.

(xiii) Section 5-10-11, “Life Limits (Systems),” of Part 2, “Airworthiness Limitations,” of the Bombardier Global Express XRS Time Limits/Maintenance Checks, Publication No. BD-700 XRS TLMC, Revision 22, dated December 19, 2023.

Note 7 to paragraph (m)(2)(xiii):

For obtaining the tasks for Bombardier Global Express XRS TLMC, Publication No. BD-700 XRS TLMC, use Document Identification No. GL XRS TLMC.

(3) For Bombardier material identified in this AD, contact Bombardier Business Aircraft Customer Response Center, 400 Côte-Vertu Road West, Dorval, Québec H4S 1Y9, Canada; telephone 514-855-2999; email ac.yul@aero.bombardier.com; website bombardier.com.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on November 26, 2024.
Steven W. Thompson,
Acting Deputy Director, Compliance & Airworthiness Division, Aircraft Certification Service.

[FR Doc. 2024-28778 Filed 12-10-24; 8:45 am]

BILLING CODE 4910-13-P